DEPARTMENT OF STATE

[Public Notice 6075]

Notice of Meeting of the Cultural Property Advisory Committee

There will be a meeting of the Cultural Property Advisory Committee on Thursday, March 6, 2008, from approximately 9 a.m. to 5 p.m., and on Friday, March 7, from approximately 9 a.m. to 3 p.m., at the Department of State, Annex 44, Room 840, 301 4th St., SW., Washington, DC. During its meeting the Committee will review a proposal to extend the Memorandum of Understanding Between the Government of the United States of America and the Government of the Kingdom of Cambodia Concerning the Imposition of Import Restrictions on Khmer Archaeological Material (“MOU”). The Government of the Kingdom of Cambodia has notified the Government of the United States of America of its interest in extending the MOU.

The Committee's responsibilities are carried out in accordance with provisions of the Convention on Cultural Property Implementation Act (19 U.S.C. 2601, et seq.). The text of the Act and subject MOU, as well as related information, may be found at http://exchanges.state.gov/culprop. Portions of the meeting on March 6 will be closed pursuant to 5 U.S.C. 552b(c)(9)(B) and 19 U.S.C. 2605(h), the latter of which stipulates that “The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.” However, on March 6, the Committee will hold an open session from approximately 9:30 a.m. to 11 a.m., to receive oral public comment on the proposal to extend. Such an open session is not a statutory requirement, nor is the invitation for public oral or written comment. These steps are taken at the initiative of the Department of State. Persons wishing to attend this open session should notify the Cultural Heritage Center of the Department of State at (202) 453-8800 no later than February 25, 2008, 5 p.m. (EST) to arrange for admission. Seating is limited.

Anyone wishing to make an oral presentation at the public session must request to be scheduled, and must submit a written text of the oral comments by February 25, 2008, to allow time for distribution to Committee members prior to the meeting. Oral comments will be limited to allow time for questions from members of the Committee and must specifically relate to the determinations under Section 303(a)(1) of the Convention on Cultural Property Implementation Act, 19 U.S.C. 2602, pursuant to which the Committee must make findings. This citation for the determinations can be found at the Web site noted above.

The Committee also invites written comments and asks that they be submitted no later than February 25, 2008, to allow time for distribution to Committee members prior to the meeting. All written materials, including the written texts of oral statements, may be faxed to (202) 453-8803. If more than three (3) pages, 20 duplicates of written materials must be sent by express mail to: Cultural Heritage Center, Department of State, Annex 44, 301 4th Street, SW., Washington, DC 20547; tel: (202) 453-8800.

Dated: January 25, 2008.
C. Miller Crouch,
Acting Assistant Secretary for Educational and Cultural Affairs, Department of State.

[FR Doc. E8-1953 Filed 2-1-08; 8:45 am]

BILLING CODE 4710-05-P